DEPARTMENT OF ENERGY

Federal Energy Regulatory Commission

Combined Notice of Filings #1

Take notice that the Commission received the following electric rate filings:

Docket Numbers: ER10-2669-007; ER10-2670-007; ER10-2673-007; ER10-2253-008; ER10-3319-009; ER10-2674-007; ER10-2627-008; ER10-2629-009; ER10-1547-007; ER10-1546-009; ER10-2676-007: ER10-2636-008; ER10-1550-008; ER10-1974-011; ER10-1975-011; ER11-2424-010; ER10-2677-007; ER10-1551-007; ER10-2678-006; ER10-2638-007.

Applicants: ANP Bellingham Energy Company, LLC, ANP Blackstone Energy Company, LLC, Armstrong Energy Limited Partnership, L., Astoria Energy LLC, Astoria Energy II LLC, Calumet Energy Team, LLC, FirstLight Hydro Generating Company, FirstLight Power Resources Management, LLC, Hopewell Cogeneration Ltd Partnership, GDF SUEZ Energy Marketing NA, Inc., Milford Power Limited Partnership, Mt. Tom Generating Company LLC, Northeastern Power Company, North Jersey Energy Associates, A Limited Partnership, Pinetree Power-Tamworth, Inc., Pleasants Energy, LLC, Syracuse Energy Corporation, Troy Energy, LLC, Waterbury Generation LLC, Northeast Energy Associates, A Limited Partnership.

Description: Notice of Non-Material Change in Status of ANP Bellingham Energy Company, LLC, et al.

Filed Date: 4/5/13.

Accession Number: 20130405-5130.

Comments Due: 5 p.m. ET 4/26/13.

Docket Numbers: ER10-3063-001.

Applicants: Green Country Energy, LLC.

Description: Green Country Energy, LLC submits supplement to December 21, 2012 Triennial Market Power Update for the Southwest Power Pool, Inc. Region.

Filed Date: 4/4/13.

Accession Number: 20130404-5140.

Comments Due: 5 p.m. ET 4/25/13.

Docket Numbers: ER13-987-001.

Applicants: Midwest Independent Transmission System Operator, Inc.

Description: 04-04-2013 SA 2350 ITC-WM Renewable Energy Amended GIA to be effective 2/27/2013.

Filed Date: 4/5/13.

Accession Number: 20130405-5023.

Comments Due: 5 p.m. ET 4/26/13.

Docket Numbers: ER13-1120-001.

Applicants: Bluesource Energy LLC.

Description: Amendment to Initial MBR filing to be effective 4/5/2013.

Filed Date: 4/5/13.

Accession Number: 20130405-5046.

Comments Due: 5 p.m. ET 4/26/13.

Docket Numbers: ER13-1167-001.

Applicants: Delaware Municipal Electric Corporation, Inc.

Description: Delaware Municipal Electric Corporation, Inc. Tariff Filing Amendment to be effective 5/1/2013.

Filed Date: 4/4/13.

Accession Number: 20130404-5114.

Comments Due: 5 p.m. ET 4/17/13.

Docket Numbers: ER13-1243-000.

Applicants: Southern California Edison Company.

Description: SGIAs and Distribution Service Agreements with Expressway Solar A and B LLC to be effective 6/4/2013.

Filed Date: 4/4/13.

Accession Number: 20130404-5000.

Comments Due: 5 p.m. ET 4/25/13.

Docket Numbers: ER13-1244-000.

Applicants: New Energy Services LLC.

Description: Residents Energy Notice of Succession to be effective 3/13/2013.

Filed Date: 4/4/13.

Accession Number: 20130404-5028.

Comments Due: 5 p.m. ET 4/25/13.

Docket Numbers: ER13-1245-000.

Applicants: Southern California Edison Company.

Description: LGIA with Rising Tree Wind Farm LLC for Rising Tree Wind Farm Project to be effective 4/5/2013.

Filed Date: 4/4/13.

Accession Number: 20130404-5039.

Comments Due: 5 p.m. ET 4/25/13.

Docket Numbers: ER13-1246-000.

Applicants: Green Country Energy, LLC.

Description: Revised MBR Filing to be effective 12/31/9998.

Filed Date: 4/4/13.

Accession Number: 20130404-5093.

Comments Due: 5 p.m. ET 4/25/13.

Docket Numbers: ER13-1247-000.

Applicants: St. Paul Cogeneration, LLC.

Description: Notice of Revised Market-Based Rate Tariff to be effective 4/5/2013.

Filed Date: 4/4/13.

Accession Number: 20130404-5111.

Comments Due: 5 p.m. ET 4/25/13.

Docket Numbers: ER13-1248-000.

Applicants: Patua Project LLC.

Description: Patua Project LLC MBR Tariff to be effective 6/1/2013.

Filed Date: 4/4/13.

Accession Number: 20130404-5115.

Comments Due: 5 p.m. ET 4/25/13.

Docket Numbers: ER13-1249-000.

Applicants: Myotis Power Marketing LLC.

Description: Myotis Power Marketing LLC MBR Tariff to be effective 6/1/2013.

Filed Date: 4/4/13.

Accession Number: 20130404-5116.

Comments Due: 5 p.m. ET 4/25/13.

Docket Numbers: ER13-1250-000.

Applicants: Southern California Edison Company.

Description: Revised Added Facilities Rate—Interconnection Facilities Agmt with CDWR to be effective 1/1/2013.

Filed Date: 4/5/13.

Accession Number: 20130405-5001.

Comments Due: 5 p.m. ET 4/26/13.

Docket Numbers: ER13-1251-000.

Applicants: PJM Interconnection, L.L.C.

Description: PJM Interconnection, L.L.C. submits Application for Waiver of the Initial Allocation of Financial Transmission Rights and Auction Revenue Rights for the East Kentucky Power Cooperative, Inc.

Filed Date: 4/3/13.

Accession Number: 20130403-5130.

Comments Due: 5 p.m. ET 4/24/13.

Docket Numbers: ER13-1252-000.

Applicants: California Power Exchange Corporation.

Description: Petition to Extend Existing Wind-Up Charge Settlement of California Power Exchange Corporation.

Filed Date: 4/3/13.

Accession Number: 20130403-5136.

Comments Due: 5 p.m. ET 4/24/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2013.
Nathaniel J. Davis, Sr.,
Deputy Secretary.

[FR Doc. 2013-08638 Filed 4-11-13; 8:45 am]

BILLING CODE 6717-01-P